DEPARTMENT OF ENERGY

Orders Granting Authority To Import and Export Natural Gas, and To Export Liquefied Natural Gas, During July 2016

| FE docket nos.
LAKE CHARLES EXPORTS, LLC | 11-59-LNG
CAMERON LNG, LLC | 15-90-LNG
AMERICAN L&P CO d/b/a AMERICAN LIGHT AND POWER | 16-85-NG
ETC MARKETING, LTD | 16-86-NG
MARATHON OIL COMPANY | 16-87-NG
PROVIDENCE SHIPPING GROUP, INC | 16-88-LNG
PROVIDENCE SHIPPING GROUP, INC | 16-89-LNG
VENTURE GLOBAL PLAQUEMINES LNG, LLC | 16-28-LNG
EAGLE LNG PARTNERS JACKSONVILLE, LLC | 16-15-LNG
LAKE CHARLES LNG EXPORT COMPANY, LLC | 13-04-LNG

AGENCY: Office of Fossil Energy, Department of Energy.

ACTION: Notice of orders.

SUMMARY: The Office of Fossil Energy (FE) of the Department of Energy gives notice that during July 2016, it issued orders granting authority to import and export natural gas, and to export liquefied natural gas (LNG). These orders are summarized in the attached appendix and may be found on the FE Web site at http://energy.gov/fe/listing-doefe-authorizationsorders-issued-2016.

They are also available for inspection and copying in the U.S. Department of Energy (FE-34), Division of Natural Gas Regulation, Office of Regulation and International Engagement, Office of Fossil Energy, Docket Room 3E-033, Forrestal Building, 1000 Independence Avenue SW., Washington, DC 20585, (202) 586-9478. The Docket Room is open between the hours of 8:00 a.m. and 4:30 p.m., Monday through Friday, except Federal holidays.

Issued in Washington, DC, on August 15, 2016.
John A. Anderson,
Director, Office of Regulation and International Engagement, Office of Oil and Natural Gas.

Appendix

DOE/FE Orders Granting Import/Export Authorizations
3324-A | 07/29/16 | 11-59-LNG | Lake Charles Exports, LLC | Order 3324-A granting Long-term Multi-contract authority to export LNG by vessel from the Lake Charles Terminal in Calcasieu Parish, Louisiana, to Non-free Trade Agreement Nations.
3846 | 07/15/16 | 15-90-LNG | Cameron LNG, LLC | Order 3846 Opinion and Order granting Long-term, Multi-contract authority to export LNG by vessel from Trains 4 and 5 of the Cameron LNG terminal in Cameron and Calcasieu Parishes, Louisiana to Non-free Trade Agreement Nations.
3860 | 07/08/16 | 16-85-NG | American L&P Co d/b/a American Light and Power | Order 3860 granting blanket authority to export natural gas to Mexico.
3861 | 07/08/16 | 16-86-NG | ETC Marketing, LTD | Order 3861 granting blanket authority to import/export natural gas from/to Mexico.
3862 | 07/08/16 | 16-87-NG | Marathon Oil Company | Order 3862 granting blanket authority to import/export natural gas from/to Canada/Mexico.
3863 | 07/08/16 | 16-88-LNG | Providence Shipping Group, Inc | Order 3863 granting blanket authority to export LNG to Mexico by truck.
3864 | 07/08/16 | 16-89-LNG | Providence Shipping Group, Inc | Order 3864 granting blanket authority to export LNG to Mexico by vessel.
3866 | 07/21/16 | 16-28-LNG | Venture Global Plaquemines LNG, LLC | Order 3866 granting Long-term Multi-contract authority to export LNG by vessel from the Plaquemines LNG Terminal in Plaquemines Parish, Louisiana, to Free Trade Agreement Nations.
3867 | 07/21/16 | 16-15-LNG | Eagle LNG Partners, Jacksonville, LLC | Order 3867 granting Long-term Multi-contract authority to export LNG by vessel from, or in ISO Containers loaded at, the proposed Eagle LNG facility in Jacksonville, Florida, to Free Trade Agreement Nations.
3868 | 07/29/16 | 13-04-LNG | Lake Charles LNG Export Company, LLC | Order 3868 granting Long-term Multi-contract authority to export LNG by vessel from the Lake Charles Terminal in Calcasieu Parish, Louisiana, to Non-free Trade Agreement Nations.

[FR Doc. 2016-19971 Filed 8-19-16; 8:45 am]

BILLING CODE 6450-01-P